DEPARTMENT OF THE TREASURY

Submission for OMB Review; Comment Request

July 25, 2013.

The Department of the Treasury will submit the following information collection request to the Office of Management and Budget (OMB) for review and clearance in accordance with the Paperwork Reduction Act of 1995, Public Law 104-13, on or after the date of publication of this notice.

DATES: Comments should be received on or before August 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Fiscal Service

OMB Number: 1510-0007.

Type of Review: Extension of a currently approved collection.

Title: Direct Deposit Sign-Up Form and Go Direct Sign Up Form.

Form: SF-1199A, FMS 1200, FMS 1200VADE, FMS 1201L, FMS form 1201S.

Abstract: The Direct Deposit Sign-Up Forms are used by recipients to authorize the deposit of Federal payments into their accounts at financial institutions. The information is used to route the Direct Deposit payment to the correct account at the correct financial institution. It identifies persons who have executed the form.

Affected Public: Individuals or Households.

Estimated Total Burden Hours: 69,142.

OMB Number: 1510-0035.

Type of Review: Extension of a currently approved collection.

Title: Assignment Form.

Form: FMS Form 6314.

Abstract: This form is used when an award holder wants to assign or transfer all or part of his/her award to another person. When this occurs, the award holder forfeits all future rights to the portion assigned.

Affected Public: Individuals or Households.

Estimated Annual Burden Hours: 75.

OMB Number: 1510-0066.

Type of Review: Extension of a currently approved collection.

Title: 31 CFR Part 208—Management; Final Rule.

Abstract: This regulation requires that most Federal payments be made by Electronic Funds Transfer (EFT); sets forth waiver requirements; and provides for a low-cost Treasury-designated account to individuals at a financial institution that offers such accounts.

Affected Public: Private Sector: Businesses or other for-profit.

Estimated Annual Burden Hours: 325.

Dawn D. Wolfgang,
Treasury PRA Clearance Officer.

[FR Doc. 2013-18228 Filed 7-29-13; 8:45 am]

BILLING CODE 4810-35-P